NUCLEAR REGULATORY COMMISSION

Advisory Committee on Reactor Safeguards; Revised Meeting Notice

The agenda for the 507th ACRS meeting, scheduled to be held on November 5-8, 2003, has been reorganized as noted below to facilitate effective use of the Committee's time. Notice of this meeting was previously published in the Federal Register on Friday, October 24, 2003 (68 FR 61020).

Wednesday, November 5, 2003

• Closed discussion of safeguards and security matters, scheduled to be held between 10:15 a.m. and 7 p.m., is now scheduled between 12:30 p.m. and 7 p.m. on the same day.

• Discussion of the Draft Final Regulatory Guide 1.32, Revision 3, “Criteria for Power Systems for Nuclear Plants,” scheduled to be held between 10:45 a.m.-11:45 a.m. on Thursday, November 6, 2003, is now scheduled between 10:35 a.m. and 11:30 a.m., on Wednesday, November 5, 2003.

Thursday, November 6, 2003

• Discussion of the Regulatory Effectiveness of the Resolution of Unresolved Safety Issue (USI)-A45, scheduled to be held between 10:15 a.m. and 12 Noon, on Friday, November 7, 2003, is now scheduled between 10:45 a.m. and 11:45 a.m., on Thursday, November 6, 2003.

Friday, November 7, 2003

• Discussion of the Task Force report on Operating Experience, scheduled to be held between 3 p.m.-4 p.m. on Friday, November 7, 2003, is now scheduled between 10:15 a.m. and 11:15 a.m. on the same day.

All other items pertaining to this meeting essentially remain the same as previously published in the Federal Register on Friday, October 24, 2003 (68 FR 61020).

For further information, contact: Dr. Sher Bahadur, Associate Director for Technical Support, ACRS, (Telephone: 301-415-0138), between 7:30 a.m. and 4:15 p.m., ET.

Dated: October 24, 2003.
Andrew L. Bates,
Advisory Committee Management Officer.

[FR Doc. 03-27333 Filed 10-29-03; 8:45 am]

BILLING CODE 7590-01-P